ENVIRONMENTAL PROTECTION AGENCY

[FRL -7540-6 ]

Science Advisory Board Staff Office; Request for Nominations for Experts for a Science Advisory Board Panel on Council for Regulatory Environmental Modeling (CREM) Guidance Advisory Panel

AGENCY: Environmental Protection Agency (EPA).

ACTION: Notice.

SUMMARY: The Environmental Protection Agency (EPA) Science Advisory Board (SAB) Staff Office is announcing the formation of a new SAB panel to provide advice on EPA's interim guidance on environmental models and development of a models knowledge base, and is soliciting nominations for members of the panel.

DATES: Nominations should be submitted no later than August 27, 2003.

ADDRESSES: Nominations should be submitted in electronic format through the Form for Nominating Individuals to Panels of the EPA Science Advisory Board provided on the SAB Web site. The form can be accessed through a link on the blue navigational bar on the SAB Web site www.epa.gov/sab. To be considered, all nominations must include the information required on that form. Anyone who is unable to submit nominations via this form may contact Dr. K. Jack Kooyoomjian, Designated Federal Officer (DFO), as indicated below.

FOR FURTHER INFORMATION CONTACT: Any member of the public wishing further information regarding this Request for Nomination may contact Dr. K. Jack Kooyoomjian, (DFO), U.S. EPA Science Advisory Board Staff Office; 1200 Pennsylvania Ave., NW., Suite 6450, Washington, DC 20460; by telephone/voice mail at (202) 564-4557; by fax at (202) 501-0582; or via e-mail at kooyoomjian.jack@epa.gov.

SUPPLEMENTARY INFORMATION: Summary: The Environmental Protection Agency (EPA) Science Advisory Board (SAB) Staff Office is announcing the formation of a new Advisory Panel, known as the Council for Regulatory Environmental Modeling (CREM) Guidance Advisory Panel to provide advice on issues related to EPA's Interim Guidance on Environmental Models as well as the development of a models knowledge base. The interim guidance is meant to outline best practices in the development, evaluation and use of environmental models that inform the decision-making process, while the knowledge base is a web-accessible inventory of environmental models intended to promote transparency in the data, algorithms, assumptions, and uncertainties underlying models and to enable developers and analysts to more easily identify information needs.

The CREM Guidance Advisory Panel is being formed to provide advice to the Agency, as part of the EPA SAB's mission, established by 42 U.S.C. 4365, to provide independent scientific and technical advice, and recommendations to the EPA Administrator on the technical bases for EPA decision making. The SAB is a chartered Federal Advisory Committee, which reports directly to the Administrator.

Background: In its mission to protect human health and safeguard the natural environment, EPA must often make decisions that attempt to minimize the potential human and ecological health risks posed by certain activities (e.g., the release of toxic chemicals to the environment). EPA uses mathematical models to anticipate possible future events, and to simulate the behavior of systems where monitoring data are difficult to obtain or limited due to resource constraints.

In its continuing efforts to assist EPA maintain the scientific credibility of its decisions, the SAB has consistently recommended that EPA institutionalize a cross-Agency approach to model assessment and use. In 1989, the SAB suggested that such an approach would help avoid the inappropriate secondary use of models and reduce duplication in modeling efforts for similar applications thereby conserving Agency resources. In subsequent years, the SAB addressed a variety of modeling issues, such as the need to conduct sensitivity and uncertainty analyses to better characterize the degree of confidence in model outputs. The SAB further suggested that EPA should collaborate with internal and external model users to obtain feedback that will ultimately facilitate continuous improvement in the Agency's modeling efforts. The EPA's Council for Regulatory Environmental Modeling (CREM) now seeks input from the SAB on two efforts the Agency believes will ultimately strengthen the scientific basis for EPA's model-based decisions: (1) Development of an Interim Guidance on Environmental Models; and (2) development of a Models Knowledge Base.

Proposed Charge to the SAB CREM Advisory Panel

Charge Issues Related to the Interim guidance on Environmental Models: As noted above, the SAB recommended that EPA establish policies and procedures for the development, evaluation, and use of environmental regulatory models. The EPA's CREM is drafting interim Agency guidance on the development and use of environmental models. These guidelines will ultimately address both policy and science issues, and EPA now turns to the SAB for advice on the latter set of issues. With regard to the Interim Guidance on Environmental Models, EPA proposes the following charge to the SAB:

Charge Question 1: Has EPA sufficiently and appropriately identified the best practices, such that decisions based on models developed and used in accordance with these practices may be said to be based on the best available, practicable science?

Charge Question 2: Has EPA sufficiently and appropriately described the goals and methods, and in adequate detail, such that the guidance serves as a practical, relevant, and useful tool for model developers and users? If not, what else would you recommend to achieve these ends?

Charge Question 3: Has EPA sufficiently and appropriately proposed a graded approach, such that users of the guidance can determine the appropriate level of evaluation for a particular model use. If there are deficiencies in the proposed approach, what would you recommend to correct it, and why?

Charge Question 4: Has EPA sufficiently and appropriately provided practicable advice for decision-makers who must deal with the uncertainty inherent in environmental models and their application? What additional advice should EPA consider in dealing with uncertainty, and why?

Charge Issues Related to a Models Knowledge Base: As noted above, the SAB recommended that the CREM coordinate EPA efforts to collaborate and seek input from model developers and users both inside and outside EPA. One mechanism to implement this collaboration is through a web-accessible knowledge base for environmental models. EPA is developing such a knowledge base to communicate more clearly the data, algorithms, assumptions, and uncertainties underlying each model; to facilitate the use of individual models or the combined use of multiple models; and to enable developers and analysts to more easily identify information needs. With regard to the Models Knowledge Base, EPA proposes the following charge to the SAB:

Charge Question 5: Has EPA identified, structured and developed the optimal set of information to request from model developers and users, i.e., the amount of information that best minimizes the burden on information providers while maximizing the utility derived from the information?

Charge Question 6: Has EPA provided the appropriate nomenclature needed to elicit specific information from model developers that will allow broad intercomparisons of model performance and application without bias toward a particular field or discipline?

Charge Queston 7: Through the development of this knowledge base, has EPA succeeded in providing: (7a) Easily accessible resource material for new model developers that will help to eliminate duplication in efforts among the offices/regions where there is overlap in the modeling efforts and sometimes communication is limited? (7b ) Details of the temporal and spatial scales of data used to construct each model as well as endogenous assumptions made during model formulation such that users may evaluate their utility in combination with other models and propagation of error due to differences in data resolution can be addressed? (7c) Examples of “successful” models (e.g., widely applied, have been tested, peer reviewed etc.)? (7d) A forum for feedback on model uses outside Agency applications and external suggestion for updating/improving model structure?

Document Availability: Readers who wish to be introduced to the substance of this review may find the review documents at: http://www.epa.gov/crem/sab when they are available. Additional background information is also posted at the EPA's CREM site: http://www.epa.gov/crem.

Request for Nominations: Any interested person or organization may nominate qualified individuals for Membership on the Subcommittee. Individuals should have expertise and experience in modeling activities related to one or more of the following areas:

(a) Hazardous waste,

(b) Atmospheric Transport, Transformations and Removal,

(c) Groundwater Hydrology,

(d) Water Quality,

(e) Indoor Air,

(f) Multi-Media Environmental Fate and Transport,

(g) Environmental Management,

(h) Terrestrial and Aquatic Ecology,

(i) Epidemiology,

(j) Public Health,

(k) Sensitivity Analysis,

(l) Uncertainty Analysis,

(m) Exposure and Risk Assessment,

(n) Environmental Law,

(o) Decision Analysis,

(p) Economics,

(q) Computer Sciences,

(r) Spatial Modeling,

(s) Model documentation,

(t) Nomenclature for Environmental Models,

(u) Statistics, and

(v) Information Quality Guidelines, Data Quality and Quality Assurance Procedures.

Process and Deadline for Submitting Nominations: Any interested person or organization may nominate qualified individuals to add expertise in the above areas for the Panel. Nominations should be submitted in electronic format through the Form for Nominating Individuals to Panels of the EPA Science Advisory Board provided on the SAB Web site. The form can be accessed through a link on the blue navigational bar on the SAB Web site, www.epa.gov/sab. To be considered, all nominations must include the information required on that form.

The EPA Science Advisory Board Staff Office will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff should consider in evaluating candidates for Panel.

For the EPA SAB, a balanced advisory panel is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by EPA SAB Staff independently on the background of each candidate (e.g., financial disclosure information and computer searches to evaluate a nominee's prior involvement with the topic under review). Specific criteria to be used in evaluating an individual subcommittee member include: (a) Scientific and/or technical expertise, knowledge, and experience (primary factors); (b) absence of financial conflicts of interest; (c) scientific credibility and impartiality; (d) availability and willingness to serve; and (e) ability to work constructively and effectively in committees.

Short List candidates will also be required to fill-out the “Confidential Financial Disclosure Form for Special Government Employees Serving on Federal Advisory Committees at the U.S. Environmental Protection Agency” (EPA Form 3110-48). This confidential form, which is submitted by EPA SAB Members and Consultants, allows Government officials to determine whether there is a statutory conflict between that person's public responsibilities (which includes membership on an EPA Federal advisory committee) and private interests and activities, or the appearance of a lack of impartiality, as defined by Federal regulation. The form may be viewed and downloaded from the following URL address: (http://www.epa.gov/sab/pdf/epaform3110-48.pdf). Panel members will likely be asked to attend a least one public face-to-face meeting and several public conference call meetings over the anticipated course of the review.

Dated: July 31, 2003.
Vanessa T. Vu,
Director, EPA Science Advisory Board Staff Office.

[FR Doc. 03-20034 Filed 8-5-03; 8:45 am]

BILLING CODE 6560-50-P